DEPARTMENT OF THE TREASURY

Customs Service

Cancellation of Customs Broker Licenses

AGENCY: Customs Service, Department of the Treasury.

ACTION: Customs Broker License Cancellations.

SUMMARY: Pursuant to section 641 of the Tariff Act of 1930 as amended (19 USC 1641) and the Customs Regulations (19 CFR Part 111), the following Customs broker licenses are canceled without prejudice. Because previous publication of some records cannot be readily verified, the records are now being published to ensure Customs compliance with administrative requirements.

Name, License Number, and Issuing Port

Air-Sea Forwarders, Inc., 03659, San Francisco; Eric T. Buchanan, 14452, Savannah; Burlington Northern Customs Brokerage, 07064, Minneapolis; Carmichael International Service, 05314, San Francisco; James W. Ghedi, 07274, Dallas/Fort Worth; ICE Company, Inc., 06358, Dallas/Fort Worth; Karl Schroff & Associates, 07698, Kansas City; Nations Customs Brokers, Inc., 16320, Miami; Robert J. Schott, 06518, Baltimore.

Some of these entities may continue to provide broker services under a different brokerage license number.

Dated: March 8, 2002.
Bonni G. Tischler,
Assistant Commissioner, Office of Field Operations.

[FR Doc. 02-7536 Filed 3-28-02; 8:45 am]

BILLING CODE 4820-02-P